FEDERAL MARITIME COMMISSION

Ocean Transportation Intermediary License Reissuance

The Commission gives notice that the following Ocean Transportation Intermediary license has been reissued pursuant to section 19 of the Shipping Act of 1984 (46 U.S.C. 40101).

License No.: 014257N.

Name: Trans-Union Group New York Co., Ltd.

Address: One Cross Island Plaza, Suite 229-C, Rosedale, NY 11422.

Date Reissued: September 3, 2014.

Pursuant to the Commission's direct final rule (79 FR 56522), beginning October 20, 2014, these notices will no longer be posted in the Federal Register. After October 20, 2014, this information will be available on the Commission's Web site at http:/www.fmc.gov. See OTI Licensing Updates.

Sandra L. Kusumoto,
Director, Bureau of Certification and Licensing.

[FR Doc. 2014-23648 Filed 10-3-14; 8:45 am]

BILLING CODE 6730-01-P